DEPARTMENT OF ENERGY

Federal Energy Regulatory Commission

Combined Notice of Filings #1

Take notice that the Commission received the following electric rate filings:

Docket Numbers: ER11-3980-003; ER10-2294-004; ER11-3808-003; ER13-534-003.

Applicants: ORNI 18, LLC, ORNI 39, LLC, Mammoth One LLC, ORNI 14 LLC.

Description: Notice of Non-Material Change-in-Status of the ORNI Companies.

Filed Date: 12/3/13.

Accession Number: 20131203-5142.

Comments Due: 5 p.m. ET 12/24/13.

Docket Numbers: ER14-336-001.

Applicants: Sunwave USA Holdings, Inc.

Description: Sunwave USA Holdings, Inc. submits Amendment to MBR Tariff Filing to be effective 12/1/2013.

Filed Date: 12/3/13.

Accession Number: 20131203-5046.

Comments Due: 5 p.m. ET 12/24/13.

Docket Numbers: ER14-509-000.

Applicants: PJM Interconnection, L.L.C.

Description: PJM Interconnection, L.L.C. submits Queue Position T77; Original Service Agreement No. 3669 to be effective 10/31/2013.

Filed Date: 12/2/13.

Accession Number: 20131202-5190.

Comments Due: 5 p.m. ET 12/23/13.

Docket Numbers: ER14-510-000.

Applicants: ISO New England Inc., New England Power Pool Participants Committee.

Description: ISO New England Inc. and New England Power Pool Participants Committee submit Installed Capacity Requirement, Hydro Quebec Interconnection Capability Credits and Related Values for the 2014/2015, 2015/2016 and 2016/2017.

Filed Date: 12/3/13.

Accession Number: 20131203-5052.

Comments Due: 5 p.m. ET 12/24/13.

Docket Numbers: ER14-511-000.

Applicants: GenOn Energy Management, LLC.

Description: GenOn Energy Management, LLC submits Compliance Filing to MBR Tariff to be effective 12/4/2013.

Filed Date: 12/3/13.

Accession Number: 20131203-5055.

Comments Due: 5 p.m. ET 12/24/13.

Docket Numbers: ER14-512-000.

Applicants: NRG Power Marketing LLC.

Description: NRG Power Marketing LLC submits tariff filing per 35: Compliance Filing for MBR Tariff to be effective 12/4/2013.

Filed Date: 12/3/13.

Accession Number: 20131203-5065.

Comments Due: 5 p.m. ET 12/24/13

Docket Numbers: ER14-513-000.

Applicants: NRG Solar Avra Valley LLC.

Description: NRG Solar Avra Valley LLC submits Compliance Filing for MBR Tariff to be effective 12/4/2013.

Filed Date: 12/3/13.

Accession Number: 20131203-5067.

Comments Due: 5 p.m. ET 12/24/13.

Docket Numbers: ER14-514-000.

Applicants: NRG Solar Borrego I LLC.

Description: NRG Solar Borrego I LLC submits Compliance Filing for MBR Tariff to be effective 12/4/2013.

Filed Date: 12/3/13.

Accession Number: 20131203-5068.

Comments Due: 5 p.m. ET 12/24/13.

Docket Numbers: ER14-515-000.

Applicants: NRG Solar Roadrunner LLC.

Description: NRG Solar Roadrunner LLC submits Compliance Filing for MBR Tariff to be effective 12/4/2013.

Filed Date: 12/3/13.

Accession Number: 20131203-5069.

Comments Due: 5 p.m. ET 12/24/13.

Docket Numbers: ER14-516-000.

Applicants: Midcontinent Independent System Operator, Inc.

Description: Midcontinent Independent System Operator, Inc. submits 12-02-2013 SA 2606 OTP-CPEC T-L L13-02 Benedict to be effective 12/4/2013.

Filed Date: 12/3/13.

Accession Number: 20131203-5081.

Comments Due: 5 p.m. ET 12/24/13.

Take notice that the Commission received the following electric securities filings:

Docket Numbers: ES14-3-000; ES14-9-000.

Applicants: FirstEnergy Service Company.

Description: Supplemental Filing and Request for 10-Day Comment Period of FirstEnergy Service Company.

Filed Date: 12/2/13.

Accession Number: 20131202-5201.

Comments Due: 5 p.m. ET 12/12/13.

Take notice that the Commission received the following electric reliability filings:

Docket Numbers: RR13-3-001.

Applicants: North American Electric Reliability Corporation.

Description: Compliance Filing of the North American Electric Reliability Corporation in Response to Order Approving Amendments to the Rules of Procedure Appendix 4D.

Filed Date: 12/2/13.

Accession Number: 20131202-5161.

Comments Due: 5 p.m. ET 12/23/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2013.
Nathaniel J. Davis, Sr.,
Deputy Secretary.

[FR Doc. 2013-29401 Filed 12-9-13; 8:45 am]

BILLING CODE 6717-01-P